DEPARTMENT OF HEALTH AND HUMAN SERVICES

Administration for Children and Families

Submission for OMB Review; Mother and Infant Home Visiting Program Evaluation (MIHOPE): Long-Term Follow-Up, Kindergarten data collection (MIHOPE-K) [OMB #0970-0402]

AGENCY: Office of Planning, Research, and Evaluation, Administration for Children and Families, HHS.

ACTION: Request for public comment.

SUMMARY: The Administration for Children and Families (ACF), in partnership with the Health Resources and Services Administration (HRSA), both of the U.S. Department of Health and Human Services (HHS), is proposing to extend data collection activity as part of the kindergarten phase of the Mother and Infant Home Visiting Program Evaluation Long-Term Follow-Up project (MIHOPE-K). The purpose of MIHOPE-K is to conduct a follow-up study that assesses the long-term impact of the Maternal, Infant, and Early Childhood Home Visiting (MIECHV) Program when the participating children are in kindergarten. This Federal Register notice is seeking to extend data collection for the kindergarten follow-up. The original Federal Register notices for the MIHOPE-K data collection were titled under MIHOPE-Long-Term Follow-Up (MIHOPE-LT).

DATES: Comments due December 30, 2021. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION:

Description: This request for an extension is to complete the following data collection activities for MIHOPE-K: (1) A survey with the child's primary caregiver (who will be the mother if she is available), (2) direct assessments of child development, (3) surveys with the child's teacher, (4) a direct assessment of the caregiver, (5) videotaped interactions between the caregiver and child, (6) a caregiver website to provide current contact information, (7) state child welfare records, and (8) school records. In addition to collecting these data, the MIHOPE-K project will continue to maintain up-to-date consent forms for the collection of administrative data. Future information collection requests and related Federal Register notices will describe future data collection efforts for this project.

Data collected during the kindergarten follow-up study is being used to estimate the effects of MIECHV-funded programs on the following seven domains: (1) Maternal health, (2) child health, (3) child development and school performance, (4) child maltreatment, (5) parenting, (6) crime or domestic violence, and (7) family economic self-sufficiency.

Respondents: The respondents in this extension will include 1,391 families who have not yet participated in the kindergarten follow-up study activities. We have assumed that only 25 percent of respondents will complete the caregiver website. We will also obtain child welfare data from the 11 MIHOPE states and school records data from state and local agencies. We have assumed that we will obtain data from 11 states and 5 local education agencies.

Annual Burden Estimates
Instrument | No. of respondents (total over request period) | No. of responses per respondent (total over request period) | Avg. burden per response (in hours) | Total burden (in hours) | Annual burden (in hours)
Burden for previously approved, ongoing data collection
Survey of caregivers | 1,391 | 1 | 0.99 | 1,377 | 689
Direct assessments of children | 1,391 | 1 | 1.33 | 1,850 | 925
Survey of the focal children's teachers | 1,391 | 1 | 0.5 | 696 | 348
Direct assessments of caregivers | 1,391 | 1 | 0.17 | 236 | 118
Videotaped caregiver-child interactions | 2,782 | 1 | 0.25 | 696 | 348
Caregiver website | 348 | 1 | 0.17 | 59 | 30
State child welfare records: data file submission | 11 | 2 | 15 | 330 | 165
School records: data file submission | 16 | 2 | 22.5 | 720 | 360

Estimated Total Annual Burden Hours: 2,983

Authority: Social Security Act Title V 511 [42 U.S.C. 711]. As extended by the Bipartisan Budget Act of 2018 (Pub. L. 115-123) through FY22.

Linda Hitt,
ACF Certifying Officer.

[FR Doc. 2021-26102 Filed 11-26-21; 4:15 pm]

BILLING CODE 4184-74-P